INTERNATIONAL TRADE COMMISSION

[Investigation No. 337-TA-1468]

Certain Smart Wearable Devices, Systems, and Components Thereof; Institution of Investigation

AGENCY: U.S. International Trade Commission.

ACTION: Notice.

SUMMARY: Notice is hereby given that a complaint was filed with the U.S. International Trade Commission on November 18, 2025, under section 337 of the Tariff Act of 1930, as amended, on behalf of Ouraring Inc. of San Francisco, California. An amended complaint was filed on December 9, 2025. The amended complaint alleges violations of section 337 based upon the importation into the United States, the sale for importation, and the sale within the United States after importation of certain smart wearable devices, systems, and components thereof by reason of the infringement of certain claims of U.S. Patent No. 11,868,178 (“the '178 patent”); U.S. Patent No. 12,353,244 (“the '244 patent”); U.S. Patent No. 12,346,159 (“the '159 patent”); and U.S. Patent No. 12,222,759 (“the '759 patent”). The amended complaint further alleges that an industry in the United States exists as required by the applicable Federal Statute. The complainant requests that the Commission institute an investigation and, after the investigation, issue a limited exclusion order and cease and desist orders.

ADDRESSES: The amended complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Susan Orndoff, The Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2025).

Scope of Investigation: Having considered the amended complaint the U.S. International Trade Commission, on December 17, 2025, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 2, and 12-14 of the '178 patent, claims 1-6 and 10-16 of the '244 patent, claims 1-8 and 12-16 of the '159 patent, and claims 17-19 of the '759 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “smart ring wearable devices, systems, and components thereof, including curved battery, printed circuit board, photoplethysmography sensors, skin temperature sensors, and accelerometers”;

(3) For the purpose of the investigation so instituted, the following are hereby named as parties upon which this notice of investigation shall be served:

(a) The complainant is: Ouraring Inc., 222 Kearny Street, San Francisco, CA 94108.

(b) The respondents are the following entities alleged to be in violation of section 337, and are the parties upon which the amended complaint is to be served:

Samsung Electronics Co., Ltd., 129 Samsung-ro, Maetan 3-dong, Yeongtong-gu, Suwon-si, Gyeonggi-do, Republic of Korea 443-742

Samsung Electronics America, Inc., 700 Sylvan Ave., Englewood Cliffs, NJ 07632

Reebok International Limited, 3rd Floor 1 Ashley Road, Altrincham, Cheshire, United Kingdom, WA14 2DT

RILUK IPCO Limited, 3rd Floor 1 Ashley Road, Altrincham, Cheshire, United Kingdom, WA14 2DT

The Original Fit Factory Ltd., Canniesburn Gate, 10 Canniesburn Drive, Bearsden, Glasgow, Scotland, G61 1BF

Truconnect Ltd, Cadder House, 160 Clober Road, Milngavie, Glasgow, Scotland, G62 7LW

Reebok International Ltd., LLC, 25 Drydock Ave., Suite 110E, Boston, MA 02210

Zepp Health Corporation, Edisonweg 44—B08, 4207 HG, Gorinchem, The Netherlands

Anhui Huami Information Technology Co., Ltd., 7/F, Building B2, Huami Global Innovation Center, No. 900, Wangjiang West Road, Hightech Zone, Hefei City, Anhui, 230088, China

Zepp Inc. (d/b/a Zepp Health), 1551 McCarthy Blvd., Suite 107, Milpitas, CA 95035

Zepp North America Inc., 14539 Marquardt Ave., Santa Fe Springs, CA 90670

Nexxbase Marketing Pvt. Ltd. (d/b/a Noise and LunaZone), Unit No. 30/31, Tower B1, Spaze IT Tech Park, Sohna Road, Gurgaon, Haryana, 122001, India

(4) For the investigation so instituted, the Chief Administrative Law Judge, U.S. International Trade Commission, shall designate the presiding Administrative Law Judge.

The Office of Unfair Import Investigations will not participate as a party in this investigation.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: December 18, 2025.
Lisa Barton,
Secretary to the Commission.

[FR Doc. 2025-23584 Filed 12-19-25; 8:45 am]

BILLING CODE 7020-02-P